DEPARTMENT OF HOMELAND SECURITY

Bureau of Citizenship and Immigration Services

Agency Information Collection Activities: Proposed Collection; Comment Request

ACTION: 30-day notice of information collection under review: Affidavit of Support under Section 213A of the Act, Contract Between Sponsor and Household Member, EZ Affidavit of Support under Sec. 213 of the Act, and Intending Immigrant's Affidavit of Support Exemption; Forms I-864, I-864A, I-864EZ and I-864W.

The Department of Homeland Security (DHS), Bureau of Citizenship and Immigration Services (BCIS) has submitted the following information collection request to the Office of Management and Budget (OMB) for review and clearance in accordance with the Paperwork Reduction Act of 1995. The information collection was previously published in the Federal Register on February 10, 2003, at 68 FR 6773, allowing for a 60-day public comment period. No comments were received by the DHS on the proposed extension of this information collection.

The purpose of this notice is to allow an additional 30 days for public comments. Comments are encouraged and will be accepted until July 11, 2003. This process is conducted in accordance with 5 CFR 1320.10.

Written comments and/or suggestions regarding the items contained in this notice, especially regarding the estimated public burden and associated response time, should be directed to the Office of Management and Budget, Office of Information and Regulatory Affairs, 725—17th Street, NW., Room 10235, Washington, DC 20503; Attn: Department of Justice Desk Officer.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a currently approved information collection.

(2) Title of the Form/Collection: Affidavit of Support under Section 213A of the Act, Contract Between Sponsor and Household Member, EZ Affidavit of Support under Section 213 of the Act, and Intending Immigrant's Affidavit of Support Exemption.

(3) Agency form number, if any, and the applicable component of the Department of Homeland Security sponsoring the collection: Forms I-864, Form I-864A, I-864EZ, and I-864W. Bureau of Citizenship and Immigration Services.

(4) Affected public who will be asked or required to respond, as well as a brief abstract: Primary: Individuals or households. The form are mandated by law for a petitioning relative to submit an affidavit on their relative's behalf. The executed form creates a contract between the sponsor and any entity that provides means-tested benefits.

(5) An estimate of the total number of respondents and the amount of time estimated for an average respondent to respond: 439,500 principal I-864 responses at 6 hours per response; 215,800 I-864A responses at 1.75 hours per response; 100,000 I-864EZ responses at 2.5 hours per response, and 1,000 I-864W responses at 1 hour per response.

(6) An estimate of the total public burden (in hours) associated with the collection: 3,265,650 annual burden hours.

If you have additional comments, suggestions, or need a copy of the proposed information collection instrument with instructions, or additional information, please contact Richard A. Sloan 202-514-3291, Director, Regulations and Forms Services Division, U.S. Department of Homeland Security, Room 4034, 425 I Street, NW., Washington, DC 20536. Additionally, comments and/or suggestions regarding the item(s) contained in this notice, especially regarding the estimated public burden and associated response time may also be directed to Mr. Richard A. Sloan.

If additional information is required contact: Mr. Lewis Oleinick, Clearance Officer, United States Department of Homeland Security, 1800 G Street, NW., 10th Floor, Washington, DC 20530.

Dated: June 5, 2003.
Richard A. Sloan,
Department Clearance Officer, United States Department of Justice, Bureau of Immigration and Customs Enforcement.

[FR Doc. 03-14629 Filed 6-10-03; 8:45 am]

BILLING CODE 4410-10-M